DEPARTMENT OF TRANSPORTATION

Surface Transportation Board

[STB Ex Parte No. 585]

Policy Statement On Use of Third-Party Contracting In Preparation Of Environmental Documentation

AGENCY: Surface Transportation Board, DOT.

ACTION: Policy statement on use of third-party contracting in preparation of environmental documentation; correction.

SUMMARY: The Surface Transportation Board published a document in the Federal Register on March 19, 2001, concerning Policy Statement on the use of Third-Party Contracting in Preparation of Environmental Documentation. The document omitted certain language.

FOR FURTHER INFORMATION CONTACT: Victoria Rutson, (202) 565-1545.

Correction

In the Federal Register of March 19, 2001, in 66 FR 15527-15532 (2001), on page 15531, in the first column, second paragraph, correct the first sentence to read:

We have examined the third-party contractor processes used by other agencies to see if we could improve our process and allow applicants to better control costs without compromising the need to ensure the independent nature of the contractor's environmental analysis.

Dated: March 19, 2001.
Vernon A. Williams,
Secretary.

[FR Doc. 01-7648 Filed 3-27-01; 8:45 am]

BILLING CODE 4915-00-P